DEPARTMENT OF ENERGY

Federal Energy Regulatory Commission

[Docket No. EG05-62-000, et al.]

Wolverine Creek Goshen Interconnection LLC; Electric Rate and Corporate Filings

May 4, 2005.

The following filings have been made with the Commission. The filings are listed in ascending order within each docket classification.

1. Wolverine Creek Goshen Interconnection, LLC

[Docket No. EG05-62-000]

Take notice that on April 29, 2005, Wolverine Creek Goshen Interconnection LLC (WCGI) filed with the Federal Energy Regulatory Commission an application for determination of exempt wholesale generator status pursuant to part 365 of the Commission's regulations.

WCGI states it is a Delaware limited liability company that will own and operate an interconnection transmission line that will be necessary to connect the wholesale generating facilities that will be owned by its owners companies (i.e., Wolverine Creek Energy LLC and Ridgeline Airtricity Energy, LLC) to the PacifiCorp transmission system. WCGI further states that the interconnection line will be used by WCGI to transport to the PacifiCorp system the power WCGI's owners produce and sell to their wholesale power customers.

Comment Date: 5 p.m. eastern time on May 16, 2005.

2. Celerity Energy Partners San Diego LLC

[Docket No. EG05-63-000]

Take notice that on April 29, 2005, Celerity Energy Partners San Diego LLC, a California limited liability company (Applicant), filed with the Federal Energy Regulatory Commission an application for determination of exempt wholesale generator status pursuant to part 365 of the Commission's regulations and section 32 of the Public Utility Holding Company Act of 1935, as amended.

Applicant states that it will operate one or more networked distributed resource generation facilities. Applicant further states that it will be engaged directly and exclusively in the business of owning or operating, or both owning and operating, eligible facilities. None of the electric energy produced from any such Network Distributed Resource facilities will be sold other than in wholesale sales.

Comment Date: 5 p.m. eastern time on May 20, 2005.

3. Wolverine Creek Energy LLC

[Docket No. EG05-64-000]

Take notice that on April 29, 2005, Wolverine Creek Energy LLC (Wolverine Creek) filed with the Commission an application for determination of exempt wholesale generator status pursuant to part 365 of the Commission's regulations.

Wolverine Creek states that it is a Delaware limited liability company that will construct, own and operate an approximately 65 MW electric generation facility located in Goshen, Idaho. Wolverine Creek further states it will sell power exclusively at wholesales.

Comment Date: 5 p.m. eastern time on May 16, 2005.

4. ISO New England Inc.

[Docket No. ER01-316-016]

Take notice that on April 27, 2005, ISO New England Inc. filed its Index of Customers for the first quarter of 2005 for its Tariff for Transmission Dispatch and Power Administration Services in compliance with Order No. 614.

Comment Date: 5 p.m. eastern time on May 18, 2005.

5. Northern Iowa Windpower II LLC

[Docket No. ER02-2085-003]

Take notice that on April 27, 2005, Northern Iowa Windpower II LLC submitted a compliance filing pursuant to the Commission's letter order issued April 6, 2005 in Docket No. ER02-2085-002 to include the change in status reporting requirements adopted by the Commission in Order No. 652, Reporting Requirements for Changes in Status for Public Utilities with Market-Based Rate Authority, 110 FERC ¶ 61,097 (2005).

Comment Date: 5 p.m. eastern time on May 18, 2005.

6. Duke Energy Fayette, LLC

[Docket No. ER03-185-004]

Take notice that on April 27, 2005, Duke Energy Fayette, LLC (Duke Fayette) submitted for filing revisions to its market-based rate tariff, designated as FERC Electric Tariff, Original Volume No. 1, to include the change in status reporting requirements adopted by the Commission in Order No. 652, Reporting Requirements for Changes in Status for Public Utilities with Market-Based Rate Authority, 110 FERC ¶ 61,097 (2005).

Duke Fayette states that copies of the filing were served on the parties on the official service list in the above-captioned proceeding.

Comment Date: 5 p.m. eastern time on May 18, 2005.

7. Midwest Independent Transmission System Operator, Inc.; Ameren Services Co., et al.

[Docket Nos. ER05-6-020, EL04-135-022, EL02-111-040, EL03-212-036]

Take notice that on April 27, 2005, the Midwest Independent Transmission System Operator, Inc. (Midwest ISO) and Midwest ISO Transmission Owners (collectively Applicants) jointly submitted for filing revisions to Schedule 21 of the Midwest ISO Open Access Transmission and Energy Markets Tariff in compliance with the Commission's November 18, 2004 Order in Docket No. ER05-6-000, et al., Midwest Independent Transmission System Operator, Inc. 109 FERC ¶ 61,168 (2004) to add the lost revenues associated with Virginia Electric and Power Company joining PJM Interconnection, Inc. on May 1, 2005.

Applicants state that copies of the filing were served on parties on the official service list in the above-captioned proceeding.

Comment Date: 5 p.m. eastern time on May 18, 2005.

8. PacifiCorp

[Docket No. ER05-429-001]

Take notice that on April 28, 2005, PacifiCorp submitted a refund report in compliance with the Commission's letter order issued March 1, 2005 in Docket No. ER05-429-000.

Comment Date: 5 p.m. eastern time on May 19, 2005.

9. Southern Company Services, Inc.

[Docket No. ER05-518-001]

Take notice that, on April 28, 2005, Southern Company Services, Inc., acting as agent for Alabama Power Company, Georgia Power Company, Gulf Power Company, Mississippi Power Company, and Savannah Electric and Power Company (collectively, Southern Companies), submitted a compliance filing, under protest, pursuant to the Commission's order issued March 29, 2005 in Docket No. ER05-518, 110 FERC ¶ 61,379 (2005).

Southern Companies state that copies of the filing were served on parties on the official service list in the above-captioned proceeding.

Comment Date: 5 p.m. eastern time on May 19, 2005.

10. Premcor Power Marketing LLC

[Docket No. ER05-680-001]

Take notice that on April 28, 2005, Premcor Power Marketing LLC (Premcor) submitted a compliance filing pursuant to a Commission letter order issued April 5, 2005 in Docket No. ER05-680-000.

Premcor states that copies of the filing were served on parties on the official service list in Docket No. ER05-680-000.

Comment Date: 5 p.m. eastern time on May 19, 2005.

11. Merrill Lynch Capital Services, Inc.

[Docket No. ER99-830-010]

Take notice that on April 28, 2005, Merrill Lynch Capital Services, Inc. submitted a compliance filing revising its market-based rate tariff pursuant to the Commission's April 14, 2005 letter order in Docket No. ER05-830-009, 111 FERC ¶ 61,036 (2005) to incorporate the reporting requirements adopted by the Commission in Order No. 652, Reporting Requirement for Changes in Status for Public Utilities with Market-Based Rate Authority, 110 FERC ( 61,097 (2005).

Comment Date: 5 p.m. eastern time on May 19, 2005.

12. Reliant Energy Wholesale Generation, LLC

[Docket No. ER05-875-000]

Take notice that on April 27, 2005, Reliant Energy Wholesale Generation, LLC (REWG) filed with the Commission a Notice of Succession notifying the Commission that REWG is succeeding to the rate schedules of Reliant Energy Aurora, LP for Reactive Support and Voltage Control from Generation Sources Service and for Black Start Service.

Comment Date: 5 p.m. eastern time on May 18, 2005.

13. Wisconsin Public Service Corporation

[Docket No. ER05-877-000]

Take notice that on April 28, 2005, Wisconsin Public Service Corporation (WPSC) tendered for filing a revised Generation Maintenance and Power Exchange Transaction Specifications (Revised Service Agreement) between WPSC and Manitowoc Public Utilities (MPU) under WPSC's Coordination Sales Tariff CS-1, FERC Electric Tariff, First Revised Volume No. 5. WPSC requests an effective date of April 1, 2005, the day that service commenced under the Revised Service Agreement.

WPSC states that copies of the filing were served upon MPU and the Public Service Commission of Wisconsin.

Comment Date: 5 p.m. eastern time on May 19, 2005.

14. Mid-Continent Area Power Pool

[Docket No. ER05-878-000]

Take notice that on April 27, 2005, the Mid-Continent Area Power Pool (MAPP), on behalf of its public utility members, submitted for filing a notice that MAPP Schedule F is deemed to be modified to adopt the North American Electric Reliability Council's most recent version of its Transmission Loading Relief Procedures.

Comment Date: 5 p.m. eastern time on May 18, 2005.

15. Virginia Electric and Power Company

[Docket No. ER05-879-000]

Take notice that on April 28, 2005, Virginia Electric and Power Company (Dominion) tendered for filing a Notice of Cancellation of its Open Access Transmission Tariff (OATT), effective May 1, 2005. Dominion states that on May 1, 2005, Dominion will transfer functional control of its facilities and transmission provider responsibilities to PJM Interconnection, LLC (PJM), and PJM will commence transmission service under PJM's OATT over Dominion's transmission facilities.

Comment Date: 5 p.m. eastern time on May 19, 2005.

16. San Diego Gas & Electric Company

[Docket No. ER05-880-000]

Take notice that on April 28, 2005, San Diego Gas & Electric Company (SDG&E) tendered for filing its Rate Schedule FERC No. 12, Must-Run Service Agreement (RMR Agreement) between SDG&E and the California Independent System Operator Corporation (CAISO). SDG&E requests an effective date the later of (1) June 1, 2005, (2) the first day of the month following the date on which SDG&E acquires title to the Miramar Energy Facility CTI, or (3) the first day of the month following the date it is permitted to become effective by the Commission.

SDG&E states that copies of the filing have been served on the CAISO, the California Public Utilities Commission, and the Electricity Oversight Board of the State of California.

Comment Date: 5 p.m. eastern time on May 19, 2005.

17. Midwest Independent Transmission System Operator, Inc.

[Docket No. ER05-881-000]

Take notice that on April 28, 2005, the Midwest Independent Transmission System Operator, Inc. (Midwest ISO) submitted a large generator interconnection agreement among High Prairie Wind Farm I, LLC, Interstate Power and Light Company, a wholly-owned subsidiary of Alliant Energy Corporation, and the Midwest ISO. Midwest ISO requests an effective date of April 11, 2005.

Midwest ISO states that a copy of this filing was served on High Prairie Wind Farm I, LLC and Interstate Power and Light Company.

Comment Date: 5 p.m. eastern time on May 19, 2005.

18. Armstrong Energy Limited Partnership, LLLP; Dominion Energy Brayton Point, LLC; Dominion Energy Kewaunee, Inc.; Dominion Energy Manchester Street, Inc.; Dominion Energy New England, Inc.; Dominion Energy Salem Harbor, LLC; Dominion Retail, Inc.; Dresden Energy, LLC; Elwood Energy LLC; Fairless Energy, LLC; Pleasants Energy, LLC; State Line Energy, L.L.C.; Troy Energy, LLC

[Docket Nos. ER05-887-000, ER05-888-000, ER05-889-000, ER05-890-000, ER05-891-000, ER05-892-000, ER05-893-000, ER05-894-000, ER05-895-000, ER05-896-000, ER05-897-000, ER05-898-000, ER05-899-000]

Take notice that on April 28, 2005, Armstrong Energy Limited Partnership, LLLP; Dominion Energy Brayton Point, LLC; Dominion Energy Kewaunee, Inc.; Dominion Energy Manchester Street, Inc.; Dominion Energy New England, Inc.; Dominion Energy Salem Harbor, LLC; Dominion Retail, Inc.; Dresden Energy, LLC; Elwood Energy LLC; Fairless Energy, LLC; Pleasants Energy, LLC; State Line Energy, L.L.C. and Troy Energy, LLC (Applicants) submitted amendments to their market-based rate tariffs to eliminate the restriction on sales within Dominion Virginia Power's service territory. The Applicants request an effective date of May 1, 2005.

Comment Date: 5 p.m. eastern time on May 19, 2005.

19. New York Independent System Operator, Inc.

[Docket No. ER05-900-000]

Take notice that on April 28, 2005, the New York Independent System Operator, Inc. (NYISO) filed revisions to its Open Access Transmission Tariff (OATT) and its Market Administration and Control Area Services Tariff (Services Tariff). NYISO states that these proposed changes would increase from 365 MW to 499 MW the applicability of special balancing rules and the exemption from undergeneration penalties to generation supplying the New York City steam distribution system. The NYISO requests an effective date of May 1, 2005.

The NYISO states that it has electronically served a copy of this filing on the official representative of each of its customers, on each participant in its stakeholder committees, and on the New York State Public Service Commission. The NYISO has lso served the electric utility regulatory agencies of New Jersey and Pennsylvania.

Comment Date: 5 p.m. eastern time on May 19, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda L. Mitry,
Deputy Secretary.

[FR Doc. E5-2299 Filed 5-10-05; 8:45 am]

BILLING CODE 6717-01-P